DEPARTMENT OF THE TREASURY

Internal Revenue Service

26 CFR Part 1

[REG-125237-00]

RIN 1545-AY60

Debt Instruments With Original Issue Discount; Annuity Contracts; Hearing Cancellation

AGENCY: Internal Revenue Service (IRS), Treasury.

ACTION: Cancellation of notice of public hearing on proposed rulemaking.

SUMMARY: This document cancels the public hearing on proposed regulations relating to the federal income tax treatment of annuity contracts issued by certain insurance companies.

DATES: The public hearing originally scheduled for Wednesday, May 30, 2001, at 10 a.m., is cancelled.

FOR FURTHER INFORMATION CONTACT: LaNita Van Dyke of the Regulations Unit, Office of Special Counsel (Modernization & Strategic Planning), (202) 622-7190 (not a toll-free number).

SUPPLEMENTARY INFORMATION: A notice of proposed rulemaking and notice of public hearing that appeared in the Federal Register on Friday, January 12, 2001 (66 FR 2852), announced that a public hearing was scheduled for Wednesday, May 30, 2001, at 10 a.m., in room 4718, Internal Revenue Building, 1111 Constitution Avenue, NW., Washington, DC. The subject of the public hearing is proposed regulations under sections 163(e) and 1271 through 1275 of the Internal Revenue Code. The public comment period for these proposed regulations expired on April 12, 2001.

The notice of proposed rulemaking and notice of public hearing, instructed those interested in testifying at the public hearing to submit a request to speak and an outline of the topics to be addressed. As of Wednesday, May 16, 2001, no one has requested to speak. Therefore, the public hearing scheduled for Wednesday, May 30, 2001, is cancelled.

LaNita Van Dyke,
Acting Chief, Regulations Unit, Office of Special Counsel (Modernization & Strategic Planning).

[FR Doc. 01-12736 Filed 5-22-01; 8:45 am]

BILLING CODE 4830-01-P